AGENCY FOR INTERNATIONAL DEVELOPMENT

60-Day Notice of Public Information Collections

AGENCY: U.S. Agency for International Development.

ACTION: Notice of public information collections.

SUMMARY: The U.S. Agency for International Development (USAID) seeks Office of Management and Budget (OMB) approval to continue the information collections described below. In accordance with the Paperwork Reduction Act of 1995, USAID requests public comment on this collection from all interested individuals and organizations. The purpose of this notice is to allow 60 days for public comment preceding submission of the collections to OMB. Comments are requested concerning: (a) Whether the collections of information are necessary for the proper performance of the functions of the Agency, including whether the information shall have practical utility; (b) the accuracy of the burden estimates; (c) ways to enhance the quality, utility, and clarity of the information collected; and (d) ways to minimize the burden of the collection of information on the respondents, including through the use of automated collection techniques or other forms of information technology.

DATES: Submit comments on or before April 25, 2022.

ADDRESSES: You may submit comments by any of the following methods:

1. Web: Through the Federal eRulemaking Portal at http://www.regulations.gov by following the instructions for submitting comments.

2. Email: policymailbox@usaid.gov.

FOR FURTHER INFORMATION CONTACT: Wayne Cohee, at (202) 916-2630 or via email at policymailbox@usaid.gov.

SUPPLEMENTARY INFORMATION:

Instructions

All comments must be in writing and submitted through the method(s) specified in the Addresses section above. All submissions must include the information collection title. Please include your name, title, organization, postal address telephone number, and email address in the text of the message. Please note that comments submitted in response to this Notice are public record. We recommend that you do not submit detailed personal information, Confidential Business Information, or any information that is otherwise protected from disclosure by statute.

USAID will only address comments that explain why the proposed collection would be inappropriate, ineffective, or unacceptable without a change. Comments that are insubstantial or outside the scope of the notice of request for public comment may not be considered.

OMB No: 0412-0510 (expired).

Title of Information Collection: Applicant and Recipient Information Collected in Response to Standard Provisions in USAID Grants and Cooperative Agreements to Non-Governmental Organizations.

Type of Review: Reinstatement, with change, of a previously approved collection (OMB approval number 0412-0510) for which approval has expired.

Purpose: USAID is authorized to make grants to and enter cooperative agreements with Non-Governmental Organizations in or outside of the United States in furtherance of the purposes and within limitations of the Foreign Assistance Act (FAA). The information collection requirements placed on the public are published in Standard Provisions that are included, as required or as applicable, in Notices of Funding Opportunities to potential applicants and resulting awards to recipients. The pre-award requirements are based on a need for prudent management in the determination that an applicant either has or can obtain the ability to competently manage development assistance programs using public funds. The requirements for information collection during the post-award period are based on the need to prudently administer public funds.

Respondents: USAID grant and cooperative agreement applicants and recipients.

Estimated Number of Annual Responses: 1,210.

Estimated Number of Annual Burden Hours: 22,100.

Estimated Total Public Burden (in cost): $1,303,900.

These estimated totals were calculated using the below burden estimates per response for each of the named Standard Provisions, which are published internally in the Agency's Automated Directives System (ADS) Chapter 303 and included by Agreement Officers, as required or as applicable, in Notices of Funding Opportunities and resulting awards:

ACCOUNTING, AUDIT, AND RECORDS (MARCH 2021)—4 hours

DEBARMENT, SUSPENSION, AND OTHER RESPONSIBILITY MATTERS (JUNE 2012)—4 hours

TRAVEL AND INTERNATIONAL AIR TRANSPORTATION (DECEMBER 2014)—4 hours

OCEAN SHIPMENT OF GOODS (JUNE 2012)—4 hours

TRAFFICKING IN PERSONS (April 2016)—8 hours

USAID IMPLEMENTING PARTNER NOTICES (IPN) PORTAL FOR ASSISTANCE (JULY 2014)—4 hours

MANDATORY DISCLOSURES (NOVEMBER 2020)—40 hours

CONFLICT OF INTEREST (August 2018)—8 hours

NEGOTIATED INDIRECT COST RATES—PREDETERMINED (NOVEMBER 2020)—40 hours

NEGOTIATED INDIRECT COST RATES—PROVISIONAL (Nonprofit) (NOVEMBER 2020)—40 hours

NEGOTIATED INDIRECT COST RATE—PROVISIONAL (Profit) (DECEMBER 2014)—40 hours

INDIRECT COSTS—NEGOTIATED INDIRECT COST RATE AGREEMENT (NICRA) (NOVEMBER 2020)—40 hours

FLY AMERICA ACT RESTRICTIONS (AUGUST 2013)—4 hours

VOLUNTARY POPULATION PLANNING ACTIVITIES—SUPPLEMENTAL REQUIREMENTS (JANUARY 2009)—8 hours

TITLE TO AND CARE OF PROPERTY (COOPERATING COUNTRY TITLE) (NOVEMBER 1985)—16 hours

INVESTMENT PROMOTION (NOVEMBER 2003)—8 hours

REPORTING HOST GOVERNMENT TAXES (DECEMBER 2014)—8 hours

COST SHARE (JUNE 2012)—24 hours

PROTECTION OF HUMAN RESEARCH SUBJECTS (JUNE 2012)—24 hours

PATENT REPORTING PROCEDURES (NOVEMBER 2020)—16 hours

Luis A. Rivera,
Acting Senior Procurement Executive.

[FR Doc. 2022-03658 Filed 2-18-22; 8:45 am]

BILLING CODE 6116-02-P